COMMISSION ON CIVIL RIGHTS

Sunshine Act Notice

AGENCY: United States Commission on Civil Rights.

ACTION: Notice of meeting.

DATE AND TIME: Friday, May 13, 2011; 9 a.m. EDT.

PLACE: The Washington Marriott at Metro Center, Junior Ballroom Salons 1 and 2, 775 12th Street, NW., Washington, DC 20005.

Briefing Agenda

This briefing is open to the public.

Topic: Peer-to-Peer Violence and Bullying: Examining the Federal Response

I. Introductory Remarks by Chairman

II. Speakers' Presentations

III. Questions by Commissioners and Staff Director

IV. Adjourn Briefing

CONTACT PERSON FOR FURTHER INFORMATION: Lenore Ostrowsky, Acting Chief, Public Affairs Unit (202) 376-8591. Hearing-impaired persons who will attend the meeting and require the services of a sign language interpreter should contact Pamela Dunston at (202) 376-8105 or at signlanguage@usccr.gov at least three business days before the scheduled date of the meeting.

Dated: May 3, 2011.
Kimberly A. Tolhurst,
Senior Attorney-Advisor.

[FR Doc. 2011-11116 Filed 5-3-11; 4:15 pm]

BILLING CODE 6335-01-P